DEPARTMENT OF THE INTERIOR

Bureau of Land Management

[ID-933-1430-ET; GPO-03-0004; IDI-15260, IDI-15256]

Public Land Order No. 7574; Partial Revocation of Secretarial Orders Dated November 17, 1902 and March 18, 1908; Idaho

AGENCY: Bureau of Land Management, Interior.

ACTION: Public land order.

SUMMARY: This order revokes two Secretarial Orders insofar as they affect 600 acres of public lands withdrawn for the Bureau of Reclamation's Minidoka Reclamation Project. The lands are no longer needed for reclamation purposes. This order makes the lands available for conveyance under the Recreation and Public Purposes Act.

EFFECTIVE DATE: August 15, 2003.

FOR FURTHER INFORMATION CONTACT: Jackie Simmons, BLM Idaho State Office, 1387 S. Vinnell Way, Boise, Idaho 83709, 208-373-3867.

Order

By virtue of the authority vested in the Secretary of the Interior by section 204 of the Federal Land Policy and Management Act of 1976, 43 U.S.C. 1714 (1994), it is ordered as follows:

1. The Secretarial Orders dated November 17, 1902 and March 18, 1908, which withdrew lands for the Bureau of Reclamation's Minidoka Reclamation Project, are hereby revoked insofar as they affect the following described lands:

Boise Meridian

T. 8 S., R. 24 E.,

Sec. 34, NW¼SW¼ and S½SE¼;

Sec. 35, E½ and SW¼.

The area described aggregates 600.00 acres in Minidoka County.

2. The lands described in paragraph 1 are hereby made available for conveyance under the Recreation and Public Purposes Act, as amended, 43 U.S.C. 869 (1994).

Dated: June 23, 2003.
Rebecca W. Watson,
Assistant Secretary—Land and Minerals Management.

[FR Doc. 03-17936 Filed 7-15-03; 8:45 am]

BILLING CODE 4310-66-P